DEPARTMENT OF JUSTICE

Notice of Lodging of Proposed Consent Decree Under the Comprehensive Environmental Response, Compensation, and Liability Act

On December 20, 2022, the Department of Justice lodged a proposed Consent Decree with the United States District Court for the Northern District of California in the lawsuit entitled United States v. Buckhorn, Inc., Civil Action No. 22-8989. In the filed Complaint, the United States, on behalf of the U.S. Environmental Protection Agency (“EPA”), alleges that the Defendant is liable under the Comprehensive Environmental Response, Compensation, and Liability Act (“CERCLA”), 42 U.S.C. 9607(a), for the response costs EPA incurred responding to the New Idria Mercury Mine Site, located near the abandoned town of Idria in San Benito County, California. The Defendant is a successor in interest to New Idria Quicksilver Mining Company, a Nevada Corporation, which owned and operated the New Idria Mercury Mine. The Consent Decree requires the Defendants to pay $1,855,500.00 million in a lump sum to the United States for the settlement of the allegations in the filed Complaint.

The publication of this notice opens a period for public comment on the Consent Decree. Comments should be addressed to the Assistant Attorney General, Environment and Natural Resources Division, and should refer to United States v. Buckhorn, Inc., D.J. Ref. No. 90-11-3-11969. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $6.75 (25 cents per page reproduction cost), payable to the United States Treasury.

Lori Jonas,
Assistant Section Chief, Environmental Enforcement Section, Environment & Natural Resources Division.

[FR Doc. 2022-27984 Filed 12-22-22; 8:45 am]

BILLING CODE 4410-15-P